FEDERAL COMMUNICATIONS COMMISSION

47 CFR Parts 0, 1, 73, and 74

[DA 11-1658]

Commission Organization; Practice and Procedure; Radio Broadcast Services; and Experimental Radio, Auxiliary, Special Broadcast and Other Program Distributional Services

AGENCY: Federal Communications Commission.

ACTION: Final rule.

SUMMARY: The Federal Communications Commission (FCC or Commission) is making a number of nonsubstantive, editorial revisions to the Commission's rules. These revisions remove certain rule provisions that are without current legal effect and therefore are obsolete, amend rules that contain references to obsolete rules or statutory provisions, and correct rules that contain outdated terminology or typographical errors. These nonsubstantive revisions are part of the Commission's ongoing examination and improvement of FCC processes and procedures. The revisions clarify, simplify, and harmonize our rules, making the rules more readily accessible to the public and avoiding potential confusion for interested parties and Commission staff alike.

DATES: Effective November 16, 2011.

ADDRESSES: Federal Communications Commission, 445 12th Street SW., Washington, DC 20554.

FOR FURTHER INFORMATION CONTACT: Royce Sherlock, (202) 418-7030.

SUPPLEMENTARY INFORMATION: This is a summary of the Commission's Order amending parts 0, 1, 73, and 74 of the Commission's rules, DA 11-1658, released on September 30, 2011. The full text of this document is available for public inspection during regular business hours in the FCC Reference Center, Room CY-A257, 445 12th Street SW., Washington, DC 20554, or online at http://www.fcc.gov using the EDOCS link. In addition, the full text of this document may be purchased from the Commission's duplicating contractor, Best Copy and Printing, Inc. (BCPI), at Portals II, 445 12th Street SW., Room CY-B402, Washington, DC 20554. Customers may contact BCPI via email sent through its Web site, http://www.bcpiweb.com, by calling (800) 378-3160 or (202) 863-2893, or by facsimile at (202) 863-2898. The revisions to the Commission's rules and the specific reasons the Commission is adopting each one are set forth below.

Part 0, Subpart B, Delegations of Authority. The Order amends the following Commission rules in part 0, subpart B, Delegations of Authority, to delete or update references that are obsolete:

Section 0.201(c), which, among other things, pertains to appeals from presiding officers' rulings, is amended to change the reference to § 1.301 of the Commission's rules in the second sentence to §§ 1.301 and 1.302 of the Commission's rules. The referenced procedures for appeals from rulings of the presiding officer are now governed by both sections. The rule is further amended to delete the third sentence because it refers to § 1.303, which the Commission has eliminated. See Amendment of Parts 0 and 1 of the Commission's Regulations, 26 F.C.C.2d 331 (1970).

Section 0.211(e) of the Commission's rules, which pertains to the Chairman's delegated authority, is amended to change “Federal Procurement Regulations” to “the Federal Acquisition Regulation” because the Federal Procurement Regulations were repealed and replaced with the Federal Acquisition Regulation. Establishing the Federal Acquisition Regulation, 48 FR 42102, September 19, 1983.

Section 0.231(e) of the Commission's rules, which pertains to the Managing Director's delegated authority, is amended to delete the second and third sentences, which are without current legal effect and therefore are obsolete. These provisions state that the Managing Director will refer all appeals filed against final decisions regarding procurement contracts to the Armed Services Board of Contract Appeals for resolution and that such appeals will be handled in accordance with the Rules of the Board of Contract Appeals. These procedures have been superseded by the Contract Disputes Act (CDA), 41 U.S.C. 7101, et seq. There is no current requirement for the agency to refer appeals from the final decision of its contracting officer, nor is the Armed Services Board of Contract Appeals the correct forum for such appeals. Rather, under the CDA, the contractor may directly appeal such decisions to the Civilian Board of Contract Appeals or the United States Court of Federal Claims. See 41 U.S.C. 7104, 7105(e)(1)(B), 7101(8)(C).

Section 0.261 of the Commission's rules, which pertains to the International Bureau's delegated authority, is amended to delete references to part 100 of the Commission's rules, which has been eliminated. Policies and Rules for the Direct Broadcast Satellite Service, 17 FCC Rcd 11331 (2002).

Section 0.291(e) of the Commission's rules, which pertains to the Wireline Competition Bureau's delegated authority, is amended to change “reporting requirements for international carriers set forth in § 43.61(d) of this chapter” to “reporting requirements for international carriers referenced in § 43.61(a)(3) of this chapter” because section (d) was renumbered as section (a)(3). International Settlement Rates, 12 FCC Rcd 19806 (1997).

Part 1, Subpart A, General Rules of Practice and Procedure; Part 73, Subpart H, Rules Applicable to All Broadcast Stations; Part 74, Subpart, General; Rules Applicable to All Services in Part 74. The Order amends the following Commission rules in part 1, subpart A to delete an obsolete rule and obsolete references, and makes conforming revisions to rules in parts 73 and 74, as follows:

Section 1.115(b)(2) of the Commission's rules, which pertains to applications for review of actions taken pursuant to delegated authority, is amended to delete “Except as provided in paragraph (b)(5) of this section” because paragraph (b)(5) has been deleted. Amendment of Parts 0, 1, 19, and 22 of the Commission's Rules to Reflect the Elimination of the Review Board, 1996 WL 207396 (FCC 1996).

Section 1.120 of the Commission's rules, which describes the Commission's former “protest” process, is deleted because, by its express terms, it does not apply to applications filed on or after December 12, 1960. As a result, this section is without current legal effect and is obsolete. In addition, the Order deletes references to § 1.120 from other rules. Specifically, in § 1.4(h) of the Commission's rules, the reference to § 1.120(d) is deleted. In the following rules, the references to § 1.120 are replaced with references to § 1.117: §§ 1.101, 1.207(c), 1.1317(a), 73.1010(a)(1), and 74.5(a)(1). The reference to § 1.120 in § 74.5(a)(2), which is listed as the first rule in part 1, subpart B of the Commission's rules, is changed to § 1.201, which is the next rule after § 1.120 and is also the first rule in part 1, subpart B.

Part 1, Subpart B, Hearing Proceedings. The Order amends the following Commission rules in Part 1, Subpart B, Hearing Proceedings, to delete obsolete rules and references and make other corrections:

Section 1.207(c) of the Commission's rules is amended, as explained above, to reflect the elimination of § 1.120.

Sections 1.227(b)(6) and 1.229(b)(2) of the Commission's rules are without current legal effect and are deleted as obsolete. These sections pertain to comparative hearings for broadcast license renewal applications. The enactment of section 309(k) of the Communications Act of 1934 eliminated comparative broadcast hearings for license renewal applicants. See 47 U.S.C. 309(k)(4).

Section 1.229(b)(3) of the Commission's rules, which establishes procedures for the filing of motions to modify the issues designated for hearing, is re-designated as § 1.229(b)(2) because, as discussed above, current § 1.229(b)(2) is being deleted as obsolete. For the same reason, this section is amended to delete the reference to § 1.229(b)(2).

Section 1.244(d) of the Commission's rules, which pertains to the designation of a settlement judge in broadcast comparative cases involving applicants for only new facilities, is amended to delete the words, “their Standardized Integration Statement and/or” because the DC Circuit invalidated the Commission's integration requirement. Bechtel v. FCC, 10 F.3d 875, 878 (DC Cir. 1993). The deleted reference is therefore obsolete. The remainder of the section is retained because the Commission retains statutory authority to award noncommercial educational broadcast licenses by comparative hearings.

Section 1.282(b)(3) of the Commission's rules is amended to correct a typographical error. The word “oder” is changed to “order.”

Section 1.325(c) of the Commission's rules is without current legal effect and is deleted as obsolete because it pertains to comparative hearings involving applicants for new commercial broadcast facilities and calls for the production of a Standardized Integration Statement and other information pertaining to the Commission's former integration standard and other broadcast comparative hearing criteria. Under section 309(j) of the Communications Act, the Commission no longer has authority to conduct comparative hearings for new commercial broadcast facilities and instead awards licenses for new broadcast service using competitive bidding. 47 U.S.C. 309(j)(1). In addition, as explained above, the DC Circuit invalidated the Commission's integration requirement.

Part 1, Subpart E, Complaints, Applications, Tariffs, and Reports Involving Common Carriers. The Order amends the following Commission rules in Part 1, Subpart E, Complaints, Applications, Tariffs, and Reports Involving Common Carriers, to delete rules that are obsolete:

Section 1.788 of the Commission's rules, which requires common carriers to file reports regarding pensions and benefits, requires compliance with a regulation in Part 43 of the rules that the Commission has eliminated. Elimination or Revision of Certain Reporting Requirements Under Part 43 of the Commission's Rules, Reports of Communication Common Carriers and Certain Affiliates, 9 FCC Rcd 1838 (1994). Section 1.788 of the Commission's rules is therefore without current legal effect and is deleted as obsolete.

Section 1.805 of the Commission's rules requires common carriers engaged in public radio service operations to file reports in conformance with Part 23, which the Commission has eliminated. Elimination of Part 23 of the Commissions Rules, 25 FCC Rcd 541 (2010). Section 1.805 of the Commission's rules is therefore without current legal effect and is deleted as obsolete.

Section 1.811 of the Commission's rules states that carriers engaged in domestic public radio services are required to report and file documents in accordance with Part 21, which has been eliminated. Amendment of Parts 1, 21, 73, 74, and 101 of the Commission's Rules, et al., 19 FCC Rcd 14165, supplemented, 19 FCC Rcd 22284 (2004). Section 1.811 of the Commission's rules is therefore without current legal effect and is deleted as obsolete.

Sections 1.821, 1.822, and 1.824 of the Commission's rules set forth random selection procedures for Multichannel Multipoint Distribution Service (MMDS). The Commission no longer has authority to use random selection for MMDS or its successor service, Broadband Radio Service. 47 U.S.C. 309(j)(1)-(2); see Amendment of Parts 1, 21, 73, 74 and 101 of the Commissions Rules to Facilitate the Provision of Fixed & Mobile Broadband Access, Educ. and Other Advanced Services in the 2150-2162 & 2500-2690 MHz Bands, 23 FCC Rcd 5992, 6062 (2008) and sources cited at id. n.3; 47 CFR 27.1217. These sections are therefore without current legal effect and are deleted as obsolete.

Part 1, Subpart F, Wireless Radio Services Applications and Proceedings. The Order amends the following Commission rules in Part 1, Subpart F, Wireless Radio Services Applications and Proceedings, to update references that are obsolete and make other corrections:

Section 1.929(b)(1) of the Commission's rules is amended to correct a typographical error. The acronym for “cellular geographic service area” is changed from “COSA” to “CGSA.”

Section 1.931(b)(1) of the Commission's rules, which pertains to applications for special temporary authority for wireless radio services, is amended to change “§§ 1.962(b)(5) and (f)” to “§§ 1.933(d)(6) and 1.939” because § 1.962 was eliminated and its provisions were moved into §§ 1.933 and 1.939. Biennial Regulatory Review, 13 FCC Rcd 21027 (1998).

Part 1, Subpart N, Enforcement of Nondiscrimination on the Basis of Disability in Programs or Activities Conducted by the Federal Communications Commission. The Order amends the following Commission rules in Part 1, Subpart N, Enforcement of Nondiscrimination on the Basis of Disability in Programs or Activities Conducted by the Federal Communications Commission, to delete or update references that are obsolete and to make other corrections:

Section 1.1803 of the Commission's rules, which defines terms related to the enforcement of non-discrimination on the basis of disability in programs or activities conducted by the Commission, is amended to revise the definition of “Section 504” to read as follows: “Section 504 means section 504 of the Rehabilitation Act of 1973, Public Law 93-112, 87 Stat. 394, 29 U.S.C. 794, as amended.” The current definition contains an incomplete list of the amendments to the 1973 law. The revised definition encompasses all amendments.

Section 1.1840 of the Commission's rules is amended to correct a typographical error. The phrase “Basic Negotiations Agreement” is revised to read “Basic Negotiated Agreement.”

Section 1.1851 of the Commission's rules, which pertains to building accessibility, is amended to change “41 CFR 101-19.600 to 101-19.607” to “41 CFR 102-76.60 to 102-76.95.” Section 1.1851 of the Commission's rules states that the definitions, requirements, and standards of the Architectural Barriers Act, 42 U.S.C. 4151-4157, “as established in 41 CFR 101-19.600 to 101.19.607, apply to all buildings covered by this section.” The cited regulations have been transferred to 41 CFR 102-76.60 to 102-76.95, and the citation in § 1.1851 of the Commission's rules is therefore outdated. Real Property Policies, General Servs. Admin., FPMR Amendments D-99 and C-1, 67 FR 76882, December 13, 2002. The amendment to § 1.1851 of the Commission's rules deletes the outdated citation and replaces it with the correct citation.

Section 1.1870(f) of the Commission's rules, which pertains to building accessibility complaints, is amended to change “Architectural and Transportation Barriers Compliance Board” to “United States Access Board” to incorporate current nomenclature as reflected in the Rehabilitation Act Amendments of 1992, Public Law 102-569, section 504, 29 U.S.C. 792.

Part 1, Subpart O, Collection of Claims Owed the United States. The Order amends the following Commission rules in Part 1, Subpart O, Collection of Claims Owed the United States, to update references that are obsolete and make other corrections:

Section 1.1901(e) of the Commission's rules is amended to correct a typographical error in the last sentence. The phrase “has order” is revised to read “has ordered.”

Section 1.1902(a) of the Commission's rules, which pertains to the audit of transportation accounts, is amended to change “41 CFR Part 101-41” to “41 CFR Part 102-118.” Part 101-41 of Title 41 of the Code of Federal Regulations does not contain any regulations; rather, it cross-references to the Federal Management Regulation, 41 CFR Ch. 102, parts102-1 to 102-20, and with respect to “transportation payment and audit policy,” it cross-references to 41 CFR part 102-118. See Transportation Payment and Audit, General Servs. Admin., 65 FR 24568, April 26, 2000.

Section 1.1902(b), which pertains to claims arising out of acquisition contracts subject to the Federal Acquisition Regulation, is amended to replace obsolete citations to 41 U.S.C. 605, 605(a) with citations to 41 U.S.C. 7103. This revision is necessary to reflect the re-codification of Title 41, Public Law 111-350 section 3, 124 Stat. 3677, 3816-3820 (2011).

Section 1.1910(b)(2) of the Commission's rules, which pertains to the handling of applications submitted by certain debtors, is amended to correct an erroneous reference in the first sentence by changing “§ 1.1901(j)” to “§ 1.1901(i).” The first sentence of § 1.1910(b)(2) of the Commission's rules refers to delinquent debts, and the corrected reference defines the term “delinquent.” This section is further amended to correct two typographical errors. The word “provisisons” is revised to read “provisions,” and “recission” is revised to read “rescission.”

Section 1.1910(c)(2) of the Commission's rules is amended to correct various typographical errors. The word “Provisions” is changed to “The provisions”; “paragraph” is changed to “paragraphs”; “application” is changed to “applications”; and “requst” is changed to “requests.”

Part 1, Subpart P, Implementation of the Anti-Drug Abuse Act of 1988. The Order amends the Commission's rules in Part 1, Subpart P, Implementation of the Anti-Drug Abuse Act of 1988, to delete § 1.2003. Section 1.2002 of the Commission's rules requires applicants for an instrument of Commission authorization to file a certification pursuant to the Anti-Drug Abuse Act of 1988, 21 U.S.C. 862. Section 1.2003 of the Commission's rules states that “[t]he certification required by § 1.2002 must be filed with the following applications and any other requests for authorization filed with the Commission, as well as for spectrum leasing notifications and spectrum leasing applications, regardless of whether a specific form exists.” The list of applications in § 1.2003 of the Commission's rules is outdated, and it is also unnecessary, since § 1.2002, by its express terms, applies to “all applicants” for an instrument of authorization from the Commission, and to spectrum lessees, whether or not the certification has been incorporated into the application form and even if there is no form. 47 CFR 1.2002(a), (d).

Part 1, Subpart T, Exempt Telecommunications Companies. The rules in Part 1, Subpart T, §§ 1.5000 through 1.5007, are without current legal effect and are deleted as obsolete. Subpart T, Exempt Telecommunications Companies, was adopted to implement section 34(a)(1) of the Public Utility Holding Company Act of 1935 (PUHCA 1935). 15 U.S.C. 79, et seq.; Implementation of Section 34(a)(1) of the Pub. Util. Holding Co. Act of 1935, as Added by Section 103 of the Telecommunications Act of 1996, 11 FCC Rcd 11377 (1996). Congress has since repealed PUHCA 1935, enacting in its place the Public Utility Holding Company Act of 2005 (PUHCA 2005), Energy Policy Act of 2005, Public Law 109-58, 119 Stat. 594. PUHCA 2005 does not reinstate the provisions of section 34(a) of PUHCA 1935 and does not otherwise mention exempt telecommunications companies.

Part 1, Subpart U, Implementation of Section 325(e) of the Communications Act: Procedures Governing Complaints Filed by Television Broadcast Stations Against Satellite Carriers for Retransmission Without Consent. The rules in Part 1, Subpart U, §§ 1.6000 through 1.6012, are without current legal effect and are deleted as obsolete. Subpart U of the Commission's rules pertains to complaints filed by television stations alleging that a satellite carrier has retransmitted their signals in violation of section 325(b)(1) of the Communications Act, 47 U.S.C. 325(b)(1). Section 1.6012 of the Commission's rules states that no complaints may be filed under this subpart after December 31, 2001 but specifies that the provisions shall continue to apply to any complaints filed on or before that date. Because no new complaints may be filed after December 31, 2001, and no complaints filed on or before that date are pending, the rules in Subpart U, §§ 1.6000 through 1.6012, are without current legal effect.

Part 1, Subpart X, Spectrum Leasing. The Order amends the Commission's rules in Part 1, Subpart X, by revising § 1.9001(a) of the Commission's rules, which describes the scope of Subpart X, Spectrum Leasing, to delete the reference to Part 26 of the rules because Part 26 has been eliminated. 4.9 GHz Band Transferred from Fed. Gov't Use, 17 FCC Rcd 3955 (2002).

Part 1, Subpart Y, International Bureau Filing System. The Order amends § 1.10014 of the Commission's rules, which describes the procedures for providing public notice of the filing and grant or denial of applications, to delete, as obsolete, references to International Fixed Public Radio Service (IFPRS) in § 1.10014(c)(2), (f) and (h) because the rules for IFPRS have been eliminated. Elimination of Part 23 of the Commission's Rules, 25 FCC Rcd 541 (2010).

Part 1, Subpart Z, Communications Assistance for Law Enforcement Act. The Order amends § 1.20007(a)(5) of the Commission's rules to correct a typographical error. The phrase “a digits dialed” is replaced with “digits dialed.”

The rule amendments adopted in the Order and set forth in the attached Appendix are nonsubstantive, editorial revisions of the rules pursuant to 47 CFR 0.231(b). These revisions delete rule provisions that are without current legal effect and therefore are obsolete, delete references to obsolete rules and statutes, and correct outdated terminology and typographical errors. Accordingly, we find good cause to conclude that notice and comment procedures are unnecessary and would not serve any useful purpose. See 5 U.S.C. 553(b)(3)(B). For the same reason, we also find good cause to make these nonsubstantive, editorial revisions of the rules effective upon publication in the Federal Register. See 5 U.S.C. 553(d)(3).

Regulatory Flexibility Act. Because the Order is being adopted without notice and comment, the Regulatory Flexibility Act, 5 U.S.C. 601, et seq., does not apply.

Paperwork Reduction Act. The rules contained herein have been analyzed with respect to the Paperwork Reduction Act of 1995 and found to contain no new or modified form, information collection, and/or recordkeeping, labeling, disclosure, or record retention requirements, and will not increase or decrease burden hours imposed on the public. See Public Law 104-13, 44 U.S.C. 3501, et seq. In addition, therefore, the Order does not contain any new or modified “information collection burden for small business concerns with fewer than 25 employees,” pursuant to the Small Business Paperwork Relief Act of 2002. See Public Law 107-198, 44 U.S.C. 3506(c)(4).

Congressional Review Act. The Commission will send a copy of the Order in a report to be sent to Congress and the Government Accountability Office pursuant to the Congressional Review Act, see 5 U.S.C. 801(a)(1)(A).

Accordingly, it is ordered that, effective November 16, 2011, Parts 0, 1, 73, and 74 of the Commission's rules are amended, as set forth below, pursuant to the authority contained in sections 4(i), 5(c), and 303(r) of the Communications Act, 47 U.S.C. 154(i), 155(c), and 303(r), and § 0.231(b) of the Commission's regulations, 47 CFR 0.231(b).

It is further ordered that the Secretary shall cause a copy of this Order to be published in the Federal Register.

List of Subjects

47 CFR Part 0

Organization and functions (government agencies).

47 CFR Part 1

Administrative practice and procedure, Claims, Communications common carriers, Drug abuse, Environmental impact statements, Equal employment opportunity, Federal buildings and facilities, Government employees, Individuals with disabilities, Radio, Reporting and recordkeeping requirements, Satellites, Telecommunications.

47 CFR Part 73 and 74

Administrative practice and procedure, Radio, Television.

Federal Communications Commission.
David Robbins,
Managing Director, Office of Managing Director.

Final Rules

For the reasons discussed in the preamble, the Federal Communications Commission amends 47 parts 0, 1, 73, and 74 as follows:

PART 0—COMMISSION ORGANIZATION

1. The authority citation for part 0 continues to read as follows:

Authority: Secs. 5, 48 Stat. 1068, as amended; 47 U.S.C. 155.

2. Amend § 0.201 by revising paragraph (c) to read as follows:

§ 0.201 General provisions.

* * * * *

(c) Procedures pertaining to the filing and disposition of interlocutory pleadings in hearing proceedings are set forth in §§ 1.291 through 1.298 of this chapter. Procedures pertaining to appeals from rulings of the presiding officer are set forth in §§ 1.301 and 1.302. Procedures pertaining to reconsideration and review of actions taken pursuant to delegated authority are set forth in §§ 1.101, 1.102, 1.104, 1.106, 1.113, 1.115, and 1.117. Procedures pertaining to exceptions to initial decisions are set forth in §§ 1.276 through 1.279.

* * * * *

3. Amend § 0.211 by revising paragraph (e) to read as follows:

§ 0.211 Chairman.

* * * * *

(e) Authority to act as “Head of the Agency” or “Agency Head” for administrative determinations required by the Federal Acquisition Regulation and Federal Management Circulars.

* * * * *

4. Amend § 0.231 by revising paragraph (e) to read as follows:

§ 0.231 Authority delegated.

* * * * *

(e) The Managing Director is delegated authority to act as Head of the Procurement Activity and Contracting Officer for the Commission and to designate appropriate subordinate officials to act as Contracting Officers for the Commission.

* * * * *

5. Amend § 0.261 by revising paragraphs (a)(4) and (b)(5)(i) to read as follows:

§ 0.261 Authority delegated.

(a) * * *

(4) To act upon applications for international and domestic satellite systems and earth stations pursuant to part 25 of this chapter;

* * * * *

(b) * * *

(5) * * *

(i) Mutually exclusive applications for radio facilities filed pursuant to parts 23, 25, or 73 of this chapter; and

* * * * *

6. Amend § 0.291 by revising paragraph (e) to read as follows:

§ 0.291 Authority delegated.

* * * * *

(e) Authority concerning rulemaking and investigatory proceedings. The Chief, Wireline Competition Bureau, shall not have authority to issue notices of proposed rulemaking, notices of inquiry, or reports or orders arising from either of the foregoing, except that the Chief, Wireline Competition Bureau, shall have authority, in consultation and coordination with the Chief, International Bureau, to issue and revise a manual on the details of the reporting requirements for international carriers referenced in § 43.61(a)(3) of this chapter.

* * * * *

PART 1—PRACTICE AND PROCEDURE

7. The authority citation for part 1 continues to read as follows:

Authority: 15 U.S.C. 79 et seq.; 47 U.S.C. 151, 154(i), 154(j), 155, 157, 225, 227, 303(r), and 309.

8. Amend § 1.4 by revising paragraph (h) to read as follows:

§ 1.4 Computation of time.

* * * * *

(h) If a document is required to be served upon other parties by statute or Commission regulation and the document is in fact served by mail (see § 1.47(f)), and the filing period for a response is 10 days or less, an additional 3 days (excluding holidays) will be allowed to all parties in the proceeding for filing a response. This paragraph (h) shall not apply to documents filed pursuant to § 1.89, § 1.315(b) or § 1.316. For purposes of this paragraph (h) service by facsimile or by electronic means shall be deemed equivalent to hand delivery.

Example 11: A reply to an opposition for a petition for reconsideration must be filed within 7 days after the opposition is filed. 47 CFR 1.106(h). The rules require that the opposition be served on the person seeking reconsideration. 47 CFR 1.106(g). If the opposition is served on the party seeking reconsideration by mail and the opposition is filed with the Commission on Monday, November 9, 1987, the first day to be counted is Tuesday, November 10, 1987 (the day after the day on which the event occurred, § 1.4(c)), and the seventh day is Monday, November 16. An additional 3 days (excluding holidays) is then added at the end of the 7 day period, and the reply must be filed no later than Thursday, November 19, 1987.

Example 12: Assume that oppositions to a petition in a particular proceeding are due 10 days after the petition is filed and must be served on the parties to the proceeding. If the petition is filed on October 28, 1993, the last day of the filing period for oppositions is Sunday, November 7. If service is made by mail, the opposition is due three days after November 7, or Wednesday, November 10.

* * * * *

9. Revise § 1.101 to read as follows:

§ 1.101 General provisions.

Under section 5(c) of the Communications Act of 1934, as amended, the Commission is authorized, by rule or order, to delegate certain of its functions to a panel of commissioners, an individual commissioner, an employee board, or an individual employee. Section 0.201(a) of this chapter describes in general terms the basic categories of delegations which are made by the Commission. Subpart B of part 0 of this chapter sets forth all delegations which have been made by rule. Sections 1.102 through 1.117 set forth procedural rules governing reconsideration and review of actions taken pursuant to authority delegated under section 5(c) of the Communications Act, and reconsideration of actions taken by the Commission. As used in §§ 1.102 through 1.117, the term designated authority means any person, panel, or board which has been authorized by rule or order to exercise authority under section 5(c) of the Communications Act.

* * * * *

10. Amend § 1.115 by revising paragraph (b)(2) to read as follows:

§ 1.115 Application for review of action taken pursuant to delegated authority.

* * * * *

(b) * * *

(2) The application for review shall specify with particularity, from among the following, the factor(s) which warrant Commission consideration of the questions presented:

(i) The action taken pursuant to delegated authority is in conflict with statute, regulation, case precedent, or established Commission policy.

(ii) The action involves a question of law or policy which has not previously been resolved by the Commission.

(iii) The action involves application of a precedent or policy which should be overturned or revised.

(iv) An erroneous finding as to an important or material question of fact.

(v) Prejudicial procedural error.

* * * * *

§ 1.120 [Removed]

11. Remove § 1.120.

12. Amend § 1.207 by revising paragraph (c) to read as follows:

§ 1.207 Interlocutory matters, reconsideration and review; cross references.

* * * * *

(c) Rules governing the reconsideration and review of actions taken pursuant to delegated authority, and the reconsideration of actions taken by the Commission, are set forth in §§ 1.101 through 1.117.

§ 1.227 [Amended]

13. In § 1.227, remove paragraph (b)(6).

14. Amend § 1.229 by revising paragraph (b) to read as follows:

§ 1.229 Motions to enlarge, change, or delete issues.

* * * * *

(b)(1) In comparative broadcast proceedings involving applicants for only new facilities, such motions shall be filed within 30 days of the release of the designation order, except that persons not named as parties to the proceeding in the designation order may file such motions with their petitions to intervene up to 30 days after publication of the full text or a summary of the designation order in the Federal Register. (See § 1.223 of this part).

(2) Any person desiring to file a motion to modify the issues after the expiration of periods specified in paragraphs (a) and (b)(1) of this section shall set forth the reason why it was not possible to file the motion within the prescribed period. Except as provided in paragraph (c) of this section, the motion will be granted only if good cause is shown for the delay in filing. Motions for modifications of issues which are based on new facts or newly discovered facts shall be filed within 15 days after such facts are discovered by the moving party.

* * * * *

15. Amend § 1.244 by revising paragraph (d) to read as follows:

§ 1.244 Designation of a settlement judge.

* * * * *

(d) The settlement judge shall have the authority to require applicants to submit their written direct cases for review. The settlement judge may also meet with the applicants and/or their counsel, individually and/or at joint conferences, to discuss their cases and the cases of their competitors. All such meetings will be off-the-record, and the settlement judge may express an opinion as to the relative comparative standing of the applicants and recommend possible means to resolve the proceeding by settlement. The proceedings before the settlement judge shall be subject to the confidentiality provisions of 5 U.S.C. 574. Moreover, no statements, offers of settlement, representations or concessions of the parties or opinions expressed by the settlement judge will be admissible as evidence in any Commission licensing proceeding.

16. Amend § 1.282 by revising paragraph (b)(3) to read as follows:

§ 1.282 Final decision of the Commission.

* * * * *

(b) * * *

(3) The appropriate rule or order and the sanction, relief or denial thereof.

* * * * *

§ 1.325 [Amended]

17. In § 1.325, remove paragraph (c).

§ 1.788 [Removed]

18. Remove § 1.788.

§ 1.805 [Removed]

19. Remove § 1.805.

§ 1.811 [Removed]

20. Remove § 1.811.

§ 1.821 [Removed]

21. Remove § 1.821.

§ 1.822 [Removed]

22. Remove § 1.822.

§ 1.824 [Removed]

23. Remove § 1.824.

24. Amend § 1.929 by revising paragraph (b)(1) to read as follows:

§ 1.929 Classification of filings as major or minor.

* * * * *

(b) * * *

(1) Request an authorization or an amendment to a pending application that would expand the cellular geographic service area (CGSA) of an existing cellular system or, in the case of an amendment, as previously proposed in an application, except during the applicable five-year build-out period, if any;

* * * * *

25. Amend § 1.931 by revising paragraph (b)(1) to read as follows:

§ 1.931 Application for special temporary authority.

* * * * *

(b) Private Wireless Services. (1) A licensee of, or an applicant for, a station in the Private Wireless Services may request STA not to exceed 180 days for operation of a new station or operation of a licensed station in a manner which is beyond the scope of that authorized by the existing license. See §§ 1.933(d)(6) and 1.939. Where the applicant, seeking a waiver of the 180 day limit, requests STA to operate as a private mobile radio service provider for a period exceeding 180 days, evidence of frequency coordination is required. Requests for shorter periods do not require coordination and, if granted, will be authorized on a secondary, non-interference basis.

* * * * *

26. Amend § 1.1317 by revising paragraph (a) to read as follows:

§ 1.1317 The Final Environmental Impact Statement (FEIS).

(a) After receipt of comments and reply comments, the Bureau will prepare a FEIS, which shall include a summary of the comments, and a response to the comments, and an analysis of the proposal in terms of its environmental consequences, and any reasonable alternatives, and recommendations, if any, and shall cite the Commission's internal appeal procedures (See 47 CFR 1.101-1.117).

* * * * *

27. Amend § 1.1803 by revising the definition of “Section 504” to read as follows:

§ 1.1803 Definitions.

* * * * *

Section 504 means section 504 of the Rehabilitation Act of 1973, Public Law 93-112, 87 Stat. 394, 29 U.S.C. 794, as amended. As used in this part, section 504 applies only to programs or activities conducted by Executive agencies and not to federally assisted programs.

* * * * *

28. Revise § 1.1840 to read as follows:

§ 1.1840 Employment.

No qualified individual with a disability shall, on the basis of disability, be subjected to discrimination in employment under any program or activity conducted by the Commission. The definitions, requirements and procedures of section 501 of the Rehabilitation Act of 1973, 29 U.S.C. 791, as established by the Equal Employment Opportunity Commission in 29 CFR parts 1614 and 1630, as well as the procedures set forth in the Basic Negotiated Agreement Between the Federal Communications Commission and National Treasury Employees Union, as amended, and Subchapter III of the Civil Service Reform Act of 1978, 5 U.S.C. 7121(d), shall apply to employment in federally conducted programs or activities.

29. Revise § 1.1851 to read as follows:

§ 1.1851 Building accessibility: New construction and alterations.

Each building or part of a building that is constructed or altered by, on behalf of, or for the use of the Commission shall be designed, constructed, or altered so as to be readily accessible to and usable by individuals with disabilities. The definitions, requirements and standards of the Architectural Barriers Act, 42 U.S.C. 4151-4157, as established in 41 CFR 102-76.60 to 102-76.95, apply to buildings covered by this section.

30. Amend § 1.1870 by revising paragraph (f) to read as follows:

§ 1.1870 Compliance procedures.

* * * * *

(f) The Commission shall notify the United States Access Board upon receipt of any complaint alleging that a building or facility that is subject to the Architectural Barriers Act of 1968, as amended, 42 U.S.C. 4151-4157, is not readily accessible to and usable by individuals with disabilities.

* * * * *

31. Amend § 1.1901 by revising paragraph (e) to read as follows:

§ 1.1901 Definitions and construction.

* * * * *

(e) The terms claim and debt are deemed synonymous and interchangeable. They refer to an amount of money, funds, or property that has been determined by an agency official to be due to the United States from any person, organization, or entity, except another Federal agency. For purposes of administrative offset under 31 U.S.C. 3716, the terms “claim” and “debt” include an amount of money, funds, or property owed by a person to a State, the District of Columbia, American Samoa, Guam, the United States Virgin Islands, the Commonwealth of the Northern Mariana Islands, or the Commonwealth of Puerto Rico. “Claim” and “debt” include amounts owed to the United States on account of extension of credit or loans made by, insured or guaranteed by the United States and all other amounts due the United States from fees, leases, rents, royalties, services, sales of real or personal property, overpayments, penalties, damages, interest, taxes, and forfeitures issued after a notice of apparent liability that have been partially paid or for which a court of competent jurisdiction has ordered payment and such order is final (except those arising under the Uniform Code of Military Justice), and other similar sources.

* * * * *

32. Amend § 1.1902 by revising paragraphs (a) and (b) to read as follows:

§ 1.1902 Exceptions.

(a) Claims arising from the audit of transportation accounts pursuant to 31 U.S.C. 3726 shall be determined, collected, compromised, terminated or settled in accordance with regulations published under the authority of 31 U.S.C. 3726 (see 41 CFR part 102-118).

(b) Claims arising out of acquisition contracts subject to the Federal Acquisition Regulations (FAR) shall be determined, collected, compromised, terminated, or settled in accordance with those regulations. (See 48 CFR part 32). If not otherwise provided for in the FAR, contract claims that have been the subject of a contracting officer's final decision in accordance with section 6(a) of the Contract Disputes Act of 1978 (41 U.S.C. 7103), may be determined, collected, compromised, terminated or settled under the provisions of this regulation, except that no additional review of the debt shall be granted beyond that provided by the contracting officer in accordance with the provisions of section 6 of the Contract Disputes Act of 1978 (41 U.S.C. 7103), and the amount of any interest, administrative charge, or penalty charge shall be subject to the limitations, if any, contained in the contract out of which the claim arose.

* * * * *

33. Amend § 1.1910 by revising paragraphs (b)(2) and (c)(2) to read as follows:

§ 1.1910 Effect of insufficient fee payments, delinquent debts, or debarment.

* * * * *

(b) * * *

(2) Action will be withheld on applications, including on a petition for reconsideration or any application for review of a fee determination, or requests for authorization by any entity found to be delinquent in its debt to the Commission (see § 1.1901(i)), unless otherwise provided for in this regulation, e.g., 47 CFR 1.1928 (employee petition for a hearing). The entity will be informed that action will be withheld on the application until full payment or arrangement to pay any non-tax delinquent debt owed to the Commission is made and/or that the application may be dismissed. See the provisions of §§ 1.1108, 1.1109, 1.1116, and 1.1118. Any Commission action taken prior to the payment of delinquent non-tax debt owed to the Commission is contingent and subject to rescission. Failure to make payment on any delinquent debt is subject to collection of the debt, including interest thereon, any associated penalties, and the full cost of collection to the Federal government pursuant to the provisions of the Debt Collection Improvement Act, 31 U.S.C. 3717.

* * * * *

(c) * * *

(2) The provisions of paragraphs (a) and (b) of this section will not apply to applications or requests for authorization to which 11 U.S.C. 525(a) is applicable.

§ 1.2003 [Removed]

34. Remove § 1.2003.

Subpart T—[Removed and Reserved]

35. Remove and reserve Subpart T, consisting of §§ 1.5000 through 1.5007.

Subpart U—[Removed and Reserved]

36. Remove and reserve Subpart U, consisting of §§ 1.6000 through 1.6012.

37. Amend § 1.9001 by revising paragraph (a) to read as follows:

§ 1.9001 Purpose and scope.

(a) The purpose of part 1, subpart X is to implement policies and rules pertaining to spectrum leasing arrangements between licensees in the services identified in this subpart and spectrum lessees. This subpart also implements policies for private commons arrangements. These policies and rules also implicate other Commission rule parts, including parts 1, 2, 20, 22, 24, 25, 27, 80, 90, 95, and 101 of title 47, chapter I of the Code of Federal Regulations.

* * * * *

38. Amend § 1.10014 by revising paragraphs (c)(2), (f), and (h) to read as follows:

§ 1.10014 What happens after officially filing my application?

* * * * *

(c) * * *

(2) Each “Accepted for Filing” Public Notice has a report number. Examples of various types of applications and their corresponding report number (the “x” represents a sequential number) follow.

Type of application | Report No.
325-C Applications | 325-xxxxx.
Accounting Rate Change | ARC-xxxxx.
Foreign Carrier Affiliation Notification | FCN-xxxxx.
International High Frequency | IHF-xxxxx.
Recognized Operating Agency | ROA-xxxxx.
Satellite Space Station | SAT-xxxxx.
Satellite Earth Station | SES-xxxxx.
International Telecommunications:
Streamlined | TEL-xxxxxS.
Non-streamlined | TEL-xxxxxNS and/or DA.
Submarine Cable Landing:
Streamlined | SCL-xxxxxS.
Non-streamlined | SCL-xxxxxNS and/or DA.

* * * * *

(f) We list most actions taken on public notices. Each “Action Taken” Public Notice has a report number. Examples of various types of applications and their corresponding report number (the “x” represents a sequential number) follow.

Type of application | Report No.
325-C Applications | 325-xxxxx.
Accounting Rate Change | No action taken PN released.
Foreign Carrier Affiliation Notification | No action taken PN released.
International High Frequency | IHF-xxxxx.
Recognized Operating Agency | No action taken PN released.
Satellite Space Station | SAT-xxxxx (occasionally).
Satellite Earth Station | SES-xxxxx.
International Telecommunications | TEL-xxxxx and DA.
Submarine Cable Landing | TEL-xxxxx and DA.

(h) Issuing and Mailing Licenses for Granted Applications. Not all applications handled through IBFS and granted by the Commission result in the issuance of a paper license or authorization. A list of application types and their corresponding authorizations follows.

Type of application | Type of license/authorization issued
325-C Application | FCC permit mailed to permittee or contact, as specified in the application.
Accounting Rate Change | No authorizing document is issued by the Commission. In some cases, a Commission order may be issued related to an Accounting Rate Change filing.
Data Network Identification Code Filing | Letter confirming the grant of a new DNIC or the reassignment of an existing DNIC is mailed to the applicant or its designated representative.
Foreign Carrier Affiliation Notification | No authorizing document is issued by the Commission. In some cases, a Commission order may be issued related to a Foreign Carrier Affiliation Notification.
International High Frequency: |
Construction Permits, Licenses, Modifications, Renewals, and Transfers of Control/Assignment of License | For all applications, an original, stamped authorization is issued to the applicant and a copy of the authorization is sent to the specified contact.
Recognized Operating Agency | The FCC sends a letter to the Department of State requesting grant or denial of recognized operating agency status. (The applicant is mailed a courtesy copy.) The Department of State issues a letter to both the Commission and the Applicant advising of their decision.
Satellite Space Station: |
1. Request for Special Temporary Authority | 1. Letter, grant-stamped request, or short order.
2. New Authorization | 2. Generally issued by Commission Order.
3. Amendment | 3. Generally issued as part of a Commission Order acting upon the underlying application.
4. Modification | 4. Generally issued by Commission Order.
5. Transfer of Control/Assignment of License | 5. Generally issued by Commission Order or Public Notice. Also, Form A-732 authorization issued and mailed to applicant (original), parties to the transaction, and the applicant's specified contact (copy).
Satellite Earth Station: |
1. Request for Special Temporary Authority | 1. Letter, grant-stamped request, or short order.
2. New Authorization | 2. License issued and mailed to applicant (original) and specified contact (copy).
3. Amendment | 3. If granted, the action is incorporated into the license for the underlying application.
4. Modification | 4. License issued and mailed to applicant (original) and specified contact (copy).
5. Renewal | 5. License issued and mailed to applicant (original) and specified contact (copy).
6. Transfer of Control/Assignment of License | 6. If granted, Form A-732 authorization issued and mailed to applicant (original), parties to the transaction, and the applicant's specified contact (copy).
International Telecommunications—Section 214: |
1. Streamlined (New, Transfer of Control, Assignment) | 1. Action Taken Public Notice serves as the authorization document. This notice is issued weekly and is available online both at IBFS (http://www.fcc.gov/ibfs) and the Electronic Document Management System (EDOCS) (http://www.fcc.gov/e-file/).
2. Non-streamlined (New, Transfer of Control, Assignment) | 2. Decisions are generally issued by PN; some are done by Commission Order.
3. Request for Special Temporary Authority | 3. Letter, grant-stamped request issued to applicant.
International Signaling Point Code Filing | Letter issued to applicant.
Submarine Cable Landing License Application: |
1. Streamlined (New, Transfer of Control, Assignment) | 1. Action Taken Public Notice serves as the authorization document. This notice is issued weekly and is available online both at IBFS, which can be found at http://www.fcc.gov/ibfs, and the Electronic Document Management System (EDOCS), which can be found at http://www.fcc.gov/e-file/.
2. Non-Streamlined (New, Transfer of Control, Assignment) | 2. Decisions are generally issued by PN; some are done by Commission Order.

39. Amend § 1.20007 by revising paragraph (a)(5) to read as follows:

§ 1.20007 Additional assistance capability requirements for wireline, cellular, and PCS telecommunications carriers.

(a) * * *

(5) Dialed digit extraction. Capability that permits a LEA to receive on the call data channel digits dialed by a subject after a call is connected to another carrier's service for processing and routing.

* * * * *

PART 73—RADIO BROADCAST SERVICES

40. The authority citation for part 73 continues to read as follows:

Authority: 47 U.S.C. 154, 303, 334, 336, and 339.

41. Amend § 73.1010 by revising paragraph (a)(1) to read as follows:

§ 73.1010 Cross reference to rules in other parts.

* * * * *

(a) * * *

(1) Subpart A, “General Rules of Practice and Procedure”. (§§ 1.1 to 1.117).

* * * * *

PART 74—EXPERIMENTAL RADIO, AUXILIARY, SPECIAL BROADCAST AND OTHER PROGRAM DISTRIBUTIONAL SERVICES

42. The authority citation for part 74 continues to read as follows:

Authority: 47 U.S.C. 154, 303, 307, 309, 336 and 554.

43. Amend § 74.5 by revising paragraphs (a)(1) and (2) to read as follows:

§ 74.5 Cross reference to rules in other parts.

(a) * * *

(1) Subpart A, “General Rules of Practice and Procedure”. (§§ 1.1 to 1.117).

(2) Subpart B, “Hearing Proceedings”. (§§ 1.201 to 1.364).

* * * * *

[FR Doc. 2011-28144 Filed 11-15-11; 8:45 am]

BILLING CODE 6712-01-P